DEPARTMENT OF TRANSPORTATION

Federal Aviation Administration

Twenty Second Meeting of the NextGen Advisory Committee (NAC)

AGENCY: Federal Aviation Administration (FAA), U.S. Department of Transportation (DOT).

ACTION: Twenty Second Meeting of the NextGen Advisory Committee (NAC).

SUMMARY: The FAA is issuing this notice to advise the public of the Twenty Second Meeting of the NextGen Advisory Committee. The NAC is a subcommittee to Federal advisory committee, RTCA.

DATES: The meeting will be held October 4, 2017, 9:00 a.m.-2:00 p.m.

ADDRESSES: The meeting will be held at: United Airlines Headquarters, The Willis Tower 233 S. Wacker Drive, Metropolitan Club, 66th Floor, Oak Room, Chicago, Illinois 60606.

FOR FURTHER INFORMATION CONTACT: Andy Cebula, NAC Secretariat, (202) 330-0652, acebula@rtca.org, 1150 18 Street NW., Suite 910, Washington, DC 20036, or by fax at (202) 833-9434, or Web site at http://www.rtca.org.

SUPPLEMENTARY INFORMATION: Pursuant to section 10(a)(2) of the Federal Advisory Committee Act (Pub. L. 92-463, 5 U.S.C., App.), notice is hereby given for a meeting of the Twenty Second Meeting of the NextGen Advisory Committee (NAC). The agenda will include the following:

October 4, 2017 9:00 a.m.-2:00 p.m.

1. Opening of Meeting/Introduction of NAC Members—Chairman David Bronczek

2. Official Statement of Designated Federal Officer—Dan Elwell, FAA Deputy Administrator

3. Review and Approval of June 28, 2017 Meeting Summary and Revised Terms of Reference

4. Chairman's Report—Chairman Bronczek

5. FAA Report—FAA

6. Making Single European Sky ATM Research (SESAR) a Performing Operational Reality

7. Northeast Corridor Phase Two Tasking—Interim Report; Action Item: Consideration for Approval

8. Joint Analysis Team—Boston Optimized Profile Descent/DataComm Benefits Assessment—Final Report; Action Item: Consideration for Approval

9. Regional Airline Equipage

10. NextGen Priorities Status—NextGen Integration Working Group (NIWG): Performance Based Navigation (PBN), Data Communications, Surface Operations & Data Sharing, Multiple Runway Operations; Action Item: Consideration for Approval of 2017 NextGen Priorities Joint Implementation Plan

11. Equipage Status

12. Other business

13. Summary of Meeting and next steps

14. Closing Comments—DFO and NAC Chairman

15. Adjourn

Although the NAC meeting is open to the public, the meeting location has limited space and security protocols that require advanced registration. To attend: Please email bteel@rtca.org with name, company, and phone number contact to pre-register no later than September 25, 2017.

With the approval of the chairman, members of the public may present oral statements at the meeting. Persons wishing to present statements or obtain information should contact the person listed in the FOR FURTHER INFORMATION CONTACT section. Members of the public may present a written statement to the committee at any time.

Issued in Washington, DC, on September 14, 2017.
Mohannad Dawoud,
Management & Program Analyst, Partnership Contracts Branch, ANG-A17, NextGen, Procurement Services Division.

[FR Doc. 2017-19892 Filed 9-14-17; 4:15 pm]

BILLING CODE 4910-13-P